DEPARTMENT OF THE INTERIOR

National Park Service

36 CFR Part 4

RIN 1024-AD72

Vehicles and Traffic Safety

AGENCY: National Park Service, Interior.

ACTION: Proposed rule; correction.

SUMMARY: The National Park Service published a proposed rule revising 36 CFR 4.30 in the Federal Register on December 18, 2008, 73 FR 76987, inadvertently leaving out the last two paragraphs. This correction restores that text.

FOR FURTHER INFORMATION CONTACT: Philip A. Selleck, Regulations Program Manager, 1849 C St., NW., Washington, DC 20240 (202) 208-4206; e-mail philip_selleck@nps.gov.

Correction

In proposed rule FR Doc. E8-29892, beginning on page 76987 in the issue of December 18, 2008, make the following correction to the text of the proposed rule. On page 76990, in the 2nd column, add at the end of § 4.30 the following paragraphs (f) and (g):

§ 4.30 Bicycles.

* * * * *

(f) A person operating a bicycle is subject to all sections of this part that apply to an operator of a motor vehicle, except §§ 4.4, 4.10, 4.11 and 4.14.

(g) The following are prohibited:

(1) Possessing a bicycle in a wilderness area established by Federal statute.

(2) Operating a bicycle during periods of low visibility, or while traveling through a tunnel, or between sunset and sunrise, without exhibiting on the operator or bicycle a white light or reflector that is visible from a distance of at least 500 feet to the front and with a red light or reflector visible from at least 200 feet to the rear.

(3) Operating a bicycle abreast of another bicycle except where authorized by the superintendent.

(4) Operating a bicycle while consuming an alcoholic beverage or carrying in hand an open container of an alcoholic beverage.

Dated: December 18, 2008.
Lyle Laverty,
Assistant Secretary, Fish and Wildlife and Parks.

[FR Doc. E8-30649 Filed 12-22-08; 8:45 am]

BILLING CODE 4312-52-P